OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between November 1, 2005, and November 30, 2005. Future notices will be published on the fourth Tuesday of each month, or as soon as possible thereafter. A consolidated listing of all authorities as of June 30 is published each year.

Schedule A

No Schedule A appointments were approved for November 2005.

Schedule B

No Schedule B appointments were approved for November 2005.

Schedule C

The following Schedule C appointments were approved during November 2005.

Section 213.3303 Executive Office of the President

Office of Management and Budget

BOGS60153 Confidential Assistant to the Associate Director for National Security Programs. Effective November 18, 2005.

Office of National Drug Control Policy

QQGS00035 Policy Analyst and Intergovernmental Affairs Liaison to the Associate Deputy Director, State and Local Affairs. Effective November 1, 2005.

Office of the United States Trade Representative

TNGS00019 Confidential Assistant to the Deputy United States Trade Representative. Effective November 21, 2005.

Section 213.3304 Department of State

DSGS61000 Senior Advisor to the Assistant Secretary for Near Eastern and South Asian Affairs. Effective November 16, 2005.

DSGS61011 Special Assistant to the Assistant Secretary for African Affairs. Effective November 18, 2005. DSGS61013 Senior Advisor to the Assistant Secretary, Bureau of Nonproliferation. Effective November 21, 2005.

DSGS61014 Assistant Manager, President's Guest House to the Deputy Chief of Protocol. Effective November 21, 2005.

DSGS61018 Foreign Affairs Officer to the Assistant Secretary for Democracy Human Rights and Labor. Effective November 28, 2005.

DSGS61016 Staff Assistant to the Assistant Secretary, Bureau for Education and Cultural Affairs. Effective November 29, 2005

Section 213.3305 Department of the Treasury

DYGS60351 Senior Advisor to the Assistant Secretary (Public Affairs). Effective November 2, 2005.

DYGS00430 Senior Advisor to the Under Secretary for Domestic Finance. Effective November 14, 2005.

Section 213.3306 Department of the Defense

DDGS16892 Confidential Assistant to the Under Secretary of Defense (Comptroller). Effective November 1, 2005.

DDGS16910 Staff Assistant to the Special Assistant to the Secretary of Defense for White House Liaison. Effective November 4, 2005.

DDGS16899 Staff Specialist to the Principal Deputy Assistant Secretary of Defense (Legal Affairs). Effective November 9, 2005.

DDGS16897 Director, Department of Defense Office of Legislative Counsel to the Deputy General Counsel, (Legal Counsel). Effective November 10, 2005.

DDGS16905 Defense Fellow to the Special Assistant to the Secretary of Defense for White House Liaison. Effective November 22, 2005.

DDGS16911 Special Assistant to the Principal Deputy Assistant Secretary of Defense (Legal Affairs). Effective November 22, 2005.

DDGS16898 Defense Fellow to the Special Assistant to the Secretary of Defense for White House Liaison. Effective November 28, 2005.

Section 213.3310 Department of Justice

DJGS00374 Staff Assistant to the Director, Office of Public Affairs. Effective November 10, 2005.

DJGS00398 Media Affairs Specialist to the Director, Office of Public Affairs. Effective November 10, 2005. DJGS00108 Special Assistant to the Director, Community Oriented Policing Services. Effective November 14, 2005.

DJGS00254 Counselor to the Assistant Attorney General, Civil Rights Division. Effective November 15, 2005.

DJGS00329 Associate Director to the Director, Office of Intergovernmental and Public Liaison. Effective November 15, 2005.

DJGS00270 Special Assistant to the Assistant Attorney General, Civil Rights Division. Effective November 18, 2005.

DJGS00410 Senior Advisor to the Assistant Attorney General. Effective November 18, 2005.

Section 213.3311 Department of Homeland Security

DMGS00429 Director of Legislative Affairs for the Secretarial Offices to the Assistant Secretary for Legislative Affairs. Effective November 1, 2005.

DMGS00426 Director of Communications for United States Citizenship and Immigration Services to the Director, Bureau of Citizenship and Immigration Services. Effective November 9, 2005.

DMGS00438 Special Assistant to the Assistant Secretary for Information Analysis. Effective November 15, 2005.

DMGS00440 Executive Assistant to the Special Assistant for Private Sector. Effective November 18, 2005.

DMGS00441 Senior Legislative Assistant to the Director of Border Security, Transportation. Effective November 18, 2005.

DMGS00442 Senior Legislative Assistant to the Assistant Secretary for Legislative Affairs. Effective November 18, 2005.

DMGS00443 Scheduler and Protocol Coordinator to the Director of Scheduling and Advance. Effective November 18, 2005.

DMGS00444 Trip Coordinator to the Director of Scheduling and Advance. Effective November 18, 2005.

DMGS00445 Advisor to the Deputy Secretary of Homeland Security. Effective November 21, 2005.

DMGS00446 Senior Advisor for Civil Rights and Civil Liberties to the Officer of Civil Rights and Civil Liberties. Effective November 22, 2005.

DMGS00447 Confidential Assistant to the General Counsel. Effective November 22, 2005.

Section 213.3312 Department of the Interior

DIGS01048 Special Assistant to the Senior Adviser to the Secretary for Alaskan Affairs. Effective November 2, 2005.

DIGS01051 Counselor to the Assistant Secretary—Land and Minerals Management. Effective November 14, 2005.

Section 213.3313 Department of Agriculture

DAGS00834 Deputy White House Liaison to the Secretary. Effective November 8, 2005.

DAGS00835 Confidential Assistant to the Under Secretary for Rural Development. Effective November 18, 2005.

Section 213.3314 Department of Commerce

DCGS00529 Senior Advisor to the Assistant Secretary for Manufacturing and Services. Effective November 1, 2005

DCGS00672 Senior Advisor to the Deputy Secretary. Effective November 4, 2005.

DCGS60136 Special Assistant to the Under Secretary of Commerce for Industry and Security. Effective November 10, 2005.

Section 213.3315 Department of Labor

DLGS60177 Special Assistant to the Assistant Secretary for Employee Benefits Security. Effective November 18, 2005.

Section 213.3316 Department of Health and Human Services

DHGS00632 Special Outreach Coordinator to the Deputy Assistant Secretary for Public Affairs (Policy and Strategy). Effective November 2, 2005.

DHGS60548 Senior Speechwriter to the Assistant Secretary for Public Affairs. Effective November 14, 2005.

DHGS60697 Special Assistant to the Director of Medicare Outreach and Special Advisor to the Secretary. Effective November 16, 2005.

DHGS60524 Confidential Assistant to the Administrator Centers for Medicare and Medicaid Services. Effective November 22, 2005.

Section 213.3317 Department of Education

DBGS00476 Confidential Assistant to the Assistant Secretary, Office of Communications and Outreach. Effective November 17, 2005.

DBGS00477 Deputy Secretary's Regional Representative, Region 4 to the Director, Regional Services. Effective November 17, 2005.

DBGS00479 Special Assistant to the Assistant Secretary for Elementary and Secondary Education. Effective November 17, 2005.

DBGS00484 Special Assistant to the Assistant Secretary, Office of Communications and Outreach. Effective November 18, 2005.

DBGS00485 Confidential Assistant to the Assistant Secretary, Office of Communications and Outreach. Effective November 18, 2005.

DBGS00478 Confidential Assistant to the Assistant Secretary for Legislation and Congressional Affairs. Effective November 28, 2005.

Section 213.3318 Environmental Protection Agency

EPGS60092 Associate Assistant Administrator to the Assistant Administrator for Air and Radiation. Effective November 21, 2005.

Section 213.3323 Federal Communications Commission

FCGS00196 Director, Office of Legislative Affairs to the Chairman. Effective November 9, 2005.

Section 213.3327 Department of Veterans Affairs

DVGS60069 Special Assistant to the Secretary of Veterans Affairs. Effective November 3, 2005.

DVGS00100 Special Assistant to the Assistant Secretary for Congressional and Legislative Affairs. Effective November 14, 2005.

Section 213.3330 Securities and Exchange Commission

SEOT90006 Confidential Assistant to a Commissioner. Effective November 22, 2005.

Section 213.3339 United States International Trade Commission

TCGS60100 Senior Economist to the Commissioner. Effective November 11, 2005.

TCGS00037 Staff Assistant to a Commissioner. Effective November 18, 2005.

Section 213.3342 Export-Import Bank

EBSL00220 Senior Vice President for Export Finance to the Chairman and President. Effective November 30, 2005.

Section 213.3360 Consumer Product Safety Commission

PSGS60064 Special Assistant (Legal) to a Commissioner. Effective November 3, 2005.

PSGS00066 Supervisory Public Affairs Specialist to the Executive Director. Effective November 15, 2005.

Section 213.3370 Millennium Challenge Corporation

CMOT00001 Executive Assistant to the Chief Executive Officer. Effective November 22, 2005.

Section 213.3373 Trade and Development Agency

TDGS60001 Executive Assistant to the Director. Effective November 22, 2005.

Section 213.3382 National Endowment for the Humanities

NHGS00080 Director of Congressional Affairs to the Chairman. Effective November 28, 2005.

Section 213.3391 Office of Personnel Management

PMGS60026 Scheduler and Special Assistant to the Executive Director and Senior Counselor. Effective November 21, 2005.

Section 213.3394 Department of Transportation

DTGS60139 Confidential Assistant to the Deputy Secretary. Effective November 9, 2005.

Authority: 5 U.S.C. 3301 and 3302; E.O. 10577, 3 CFR 1954-1958 Comp., P.218.

Office of Personnel Management.
Linda M. Springer,
Director.

[FR Doc. E5-7737 Filed 12-22-05; 8:45 am]

BILLING CODE 6325-39-P